NATIONAL SCIENCE FOUNDATION

Alan T. Waterman Award Committee; Notice of Meeting

In accordance with the Federal Advisory Committee Act (Pub. L. 92-463, as amended), the National Science Foundation (NSF) announces the following meeting:

NAME AND COMMITTEE CODE: Alan T. Waterman Award Committee (#1172).

DATE AND TIME: January 16, 2019; 9 a.m. to 2 p.m.

PLACE: National Science Foundation, 2415 Eisenhower Avenue, Suite W19000, Alexandria, Virginia 22314.

TYPE OF MEETING: Closed.

CONTACT PERSON: Sherrie B. Green, Program Manager, OD/OIA, Suite W17126, National Science Foundation, 2415 Eisenhower Ave., Alexandria, VA 22314; Telephone: (703) 292-8040.

PURPOSE OF MEETING: To provide advice and recommendations in the selection of the Alan T. Waterman Award recipient.

AGENDA: To review and evaluate nominations as part of the selection process for awards.

REASON FOR CLOSING: The nominations being reviewed include information of a personal nature where disclosure would constitute unwarranted invasions of personal privacy. These matters are exempt under 5 U.S.C. 552b(c), (6) of the Government in the Sunshine Act.

Dated: November 27, 2018.
Crystal Robinson,
Committee Management Officer.

[FR Doc. 2018-26030 Filed 11-29-18; 8:45 am]

BILLING CODE 7555-01-P